DEPARTMENT OF COMMERCE

International Trade Administration

[A-583-826]

Collated Roofing Nails From Taiwan: Rescission of Second Antidumping Duty Administrative Review

AGENCY: Import Administration, International Trade Administration, Department of Commerce.

ACTION: Notice of Rescission of the Second Antidumping Duty Administrative Review.

SUMMARY: On December 28, 1999, in response to a November 29, 1999, request made by Dinsen Fastening System, Inc., a producer/exporter of collated roofing nails from Taiwan, the Department of Commerce published the initiation of an administrative review of the antidumping duty order on collated roofing nails from Taiwan, covering the period November 1, 1998 through October 31, 1999. Since no other party requested a review, the Department is rescinding this review as a result of the timely withdrawal of the request for review by Dinsen Fastening System, Inc.

EFFECTIVE DATE: March 31, 2000.

FOR FURTHER INFORMATION CONTACT: Brian Smith or Brian Ledgerwood, AD/CVD Enforcement, Import Administration, International Trade Administration, U.S. Department of Commerce, 14th Street & Constitution Avenue, NW, Washington, DC 20230, telephone: (202) 482-1766 and (202) 482-3836, respectively.

SUPPLEMENTARY INFORMATION: Unless otherwise indicated, all citations to the statute are references to the provisions effective January 1, 1995, the effective date of the amendments made to the Tariff Act of 1930 (“the Act”) by the Uruguay Round Agreements Act. In addition, unless otherwise indicated, all citations to the Department of Commerce's (“the Department's”) regulations refer to 19 CFR part 351 (1999).

Background

On November 19, 1997, the Department published an antidumping duty order on collated roofing nails from Taiwan (62 FR 61730). On November 29, 1999, the above-mentioned producer/exporter requested an administrative review of the antidumping duty order on collated roofing nails from Taiwan covering the period of November 1, 1998, through October 31, 1999. In accordance with 19 CFR 351.221(c)(1)(i), we published the initiation of the review on December 28, 1999 (64 FR 72644). On February 3, 2000, Dinsen Fastening System, Inc. (“Dinsen”) withdrew its request for review.

Rescission of Review

The Department's regulations, at 19 CFR 351.213(d)(1), provide that the Department will rescind an administrative review if a party that requested the review withdraws its request within 90 days of the date of publication of the notice of initiation of the requested review. Dinsen withdrew its request for an administrative review on February 3, 2000, which is within the 90-day deadline. Therefore, the Department has determined to rescind this administrative review with respect to Dinsen.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with 19 CFR 351.213(d)(4) and section 777(i) of the Act.

Dated: March 23, 2000.
Richard W. Moreland,
Deputy Assistant Secretary for Import Administration.

[FR Doc. 00-8014 Filed 3-30-00; 8:45 am]

BILLING CODE 3510-DS-P